DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
ARIZONA
La Paz County, (FEMA Docket No.# B-7435)
Centennial Wash:
Approximately 3,100 feet downstream from the confluence of Tributary A at Wenden | *1,837
Approximately 3,700 feet upstream of Atchison, Topeka and Santa Fe Railroad | *1,884
Tributary B at Wenden:
Approximately 1,800 feet upstream of the Atchison, Topeka and Santa Fe Railroad | *1,865
Approximately 7,800 feet upstream of the Atchison, Topeka and Santa Fe Railroad | *1,910
Maps are available for inspection at the Community Development, Department. 1112 Joshua Avenue #202, Parker, Arizona.
———
Navajo County, (FEMA Docket No.# B-7435)
Mexican Lake Outlet:
Approximately 800 feet downstream of Abandoned Railroad | *5,934
Approximately 1,250 feet upstream of Abandoned Railroad | *5,979
Mexican Lake:
At Mexican Lake | *5,979
White Mountain Lake:
At White Mountain Lake | *5,979
Rocky Arroyo:
Approximately 1,000 feet downstream of Silver Creek Drive | *5,980
Approximately 3,900 feet upstream of Silver Creek Drive | *6,084
Lower Silver Creek:
Approximately 5,140 feet downstream of unnamed Road | *5,638
Approximately 150 feet downstream of the confluence with Show Low Creek | *5,659
Upper Silver Creek:
Approximately 2,050 feet downstream of Silver Lake Boulevard | *5,980
Approximately 450 feet downstream of Bourdon Rande Road
| *6,107
Maps are available for inspection at the Flood Control Division, County Government Complex, 100 East Carter Drive, Holbrook, Arizona.
———
Taylor (Town), Navajo County, (FEMA Docket No.# B-7435)
Lower Silver Creek:
Approximately 3,700 feet upstream of Willow Lane | *5,625
Approximately 23,100 feet upstream of Willow Lane | *5,644
Maps are available for inspection at the Town Hall, 425 West Bull Duck Road, Taylor, Arizona.

Source of flooding and location | #Depth in feet above ground. *Elevation in feet (NGVD) +Elevation in feet (NAVD) | Communities Affected
SOUTH DAKOTA
Aurora County and Incorporated Areas, (FEMA Docket No.# B-7435)
Skunk Creek:
Approximately 200 feet downstream of the 1st Street Bridge | +1,510 | Aurora County (Uninc. Areas), City of Plankinton
At State Street | +1,524
Approximately 150 feet downstream of Interstate 90 | +1,529
Northwest Drainage:
At Main Street | +1,517 | City of Plankinton
Approximately 500 feet upstream of Kimball Street Bridge | +1,522
ADDRESSES
Aurora County (Unincorporated Areas)
Maps are available for inspection at 401 North Main Street, Plankinton, South Dakota.
City of Plankinton
Maps are available for inspection at City Hall, 125 North Main Street, Plankinton, South Dakota.

(Catalog of Federal Domestic Assistance No. 83.100, “Flood Insurance.”)
Dated: June 24, 2003.
Anthony S. Lowe,
Mitigation Division Director, Emergency Preparedness and Response Directorate.

[FR Doc. 03-16542 Filed 6-30-03; 8:45 am]

BILLING CODE 6718-04-P